DEPARTMENT OF ENERGY

DOE/NSF Nuclear Science Advisory Committee

AGENCY: Department of Energy, Office of Science.

ACTION: Notice of open meeting.

SUMMARY: This notice announces a meeting of the DOE/NSF Nuclear Science Advisory Committee. The Federal Advisory Committee Act requires that public notice of these meetings be announced in the Federal Register.

DATES: Friday, October 18, 2019, 9:00 a.m.-4:30 p.m.

ADDRESSES: Doubletree/Washington DC/Crystal City, 300 Army Navy Drive, Washington Ballroom, Arlington, Virginia 22202, 703-416-4100.

FOR FURTHER INFORMATION CONTACT: Brenda L. May, Department of Energy; SC-26/Germantown Building, 1000 Independence Avenue SW, Washington, DC 20585-1290; Telephone: (301) 903-0536 or email: brenda.may@science.doe.gov. The most current information concerning this meeting can be found on the website: https://science.osti.gov/np/nsac/meetings.

SUPPLEMENTARY INFORMATION:

Purpose of the Board: To provide advice and guidance on a continuing basis to the Department of Energy and the National Science Foundation on scientific priorities within the field of basic nuclear science research.

Tentative Agenda: Agenda will include discussions of the following:

Friday, October 18, 2019.

• Perspectives from Department of Energy and National Science Foundation.

• Update from the Department of Energy and National Science Foundation's Nuclear Physics Offices.

• Presentation and Discussion of the QIS Report.

• Presentation on the sPHENIX Project.

• Presentation on the Double Beta Decay Topical Collaboration.

• Presentation on the Beam Energy Scan Theory Topical Collaboration.

• NSAC Business/Discussions.

Note: The NSAC Meeting will be broadcast live on the internet. You may find out how to access this broadcast by going to the Office of Science website at https://science.osti.gov/np/nsac/meetings prior to the start of the meeting. A video record of meeting, including the presentations that are made, will be archived at this site after the meeting.

Public Participation: The meeting is open to the public. If you would like to file a written statement with the Committee, you may do so either before or after the meeting. If you would like to make oral statements regarding any of these items on the agenda, you should contact Brenda L. May, (301) 903-0536 (phone) or Brenda.May@science.doe.gov (email). You must make your request for an oral statement at least five business days before the meeting. Reasonable provision will be made to include the scheduled oral statements on the agenda. The Chairperson of the Committee will conduct the meeting to facilitate the orderly conduct of business. Public comment will follow the 10-minute rule.

The minutes of the meeting will be available for review on the Department of Energy's Office of Nuclear Physics website at https://science.osti.gov/np/nsac/meetings.

Signed in Washington, DC, on September 16, 2019.
LaTanya Butler,
Deputy Committee Management Officer.

[FR Doc. 2019-20348 Filed 9-19-19; 8:45 am]

BILLING CODE 6450-01-P